ENVIRONMENTAL PROTECTION AGENCY

[FRL -7153-6]

EPA Science Advisory Board; PM Research Center Interim Review Panel; Notification of Public Advisory Committee Meeting

Pursuant to the Federal Advisory Committee Act, Public Law 92-463, notice is hereby given that the PM Research Center Interim Review Panel of the US EPA Science Advisory Board (SAB) will conduct a contingency conference call on Wednesday, March 27, 2002, if it is needed to complete work on the report of the Panel stemming from its public meeting on February 11-12, 2002 (see 67 FR 2434, January 17, 2002). The call will be convened in Conference Room 6013, USEPA, Ariel Rios Building North, 1200 Pennsylvania Avenue, NW., Washington, DC 20004. The meeting will begin at 11 am and end no later than 1 pm Eastern Time. This meeting is open to the public, however, seating is limited and available on a first come basis. A decision will be made no later than Wednesday, March 20th as to whether or not the teleconference will be needed—this notification will be posted on the SAB Web site (www.epa.gov/sab) under the “NEW” heading.

Purpose of the Meeting: The Panel met in public session on February 11-12, 2002, and developed draft responses to each of the Charge questions posed by the Agency (see 67 FR 2434, January 17, 2002). The Panel set aside time for a late March teleconference in order to discuss any issues that remain after the formal report drafting process. The meeting will not be held, if, in the opinion of the Panel Chair, the are no issues that require additional discussion. In any event, the final report will be reviewed by the SAB Executive Committee in an announced public meeting prior to the report's being submitted to the Administrator.

Availability of Review Materials: If the meeting takes place, the draft Panel report will be posted on the SAB Web site (www.epa.gov/sab) no later than Friday, March 22. The underlying documents that are the subject of SAB reviews were made available to the public as described in the earlier referenced FR notice.

FOR FURTHER INFORMATION CONTACT: Any member of the public wishing further information concerning this meeting or wishing to submit brief oral comments (three to five minutes maximum) must contact Dr. Donald Barnes, Designated Federal Officer, EPA Science Advisory Board (1400A), U.S. Environmental Protection Agency, 1200 Pennsylvania Avenue, NW., Washington, DC 20460; telephone (202) 564-4533; FAX (202) 501-0323; or via e-mail at barnes.don@epa.gov. Requests for oral comments must be received by Dr. Barnes no later than noon Eastern Time on March 25, 2002. Information concerning access to the teleconference in person in the conference room, or via telephone, may be obtained from Ms. Betty Fortune at (202) 564-4533 or via e-mail at fortune.betty@epa.gov.

Providing Oral or Written Comments at SAB Meetings

It is the policy of the EPA Science Advisory Board to accept written public comments of any length, and to accommodate oral public comments whenever possible. The EPA Science Advisory Board expects that public statements presented at its meetings will not be repetitive of previously submitted oral or written statements.

Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their oral comments and presentation slides for distribution to the reviewers and public at the meeting.

Written Comments: Although the SAB accepts written comments until the date of the meeting (unless otherwise stated), written comments should be received in the SAB Staff Office at least one week prior to the meeting date so that the comments may be made available to the SAB committee or panel for their consideration. Comments should be supplied to the appropriate DFO at the address/contact information noted above in the following formats: one hard copy with original signature, and one electronic copy via e-mail [acceptable file format: Adobe Acrobat (PDF), WordPerfect, Word, or Rich Text files (in IBM-PC/Windows 95/98 format)]. Those providing written comments and who attend the meeting are also asked to bring 35 copies of their comments for public distribution.

General Information: Additional information concerning the EPA Science Advisory Board, its structure, function, and composition, may be found on the SAB Web site (http://www.epa.gov/sab) and in The FY2001 Annual Report of the Staff Director which is available from the SAB Publications Staff at (202) 564-4533 or via fax at (202) 501-0323. Committee rosters, draft Agendas and meeting calendars are also located on our Web site.

Meeting Access: Individuals requiring special accommodation at this meeting, including wheelchair access to the conference room, should contact Dr. Barnes at least five business days prior to the meeting so that appropriate arrangements can be made.

Dated: February 25, 2002.
Donald G. Barnes,
Staff Director, EPA Science Advisory Board.

[FR Doc. 02-5312 Filed 3-5-02; 8:45 am]

BILLING CODE 6560-50-P